DEPARTMENT OF COMMERCE

International Trade Administration

[A-570-093]

Refillable Stainless Steel Kegs From the People's Republic of China: Final Results of the Antidumping Duty Administrative Review; 2019-2020

AGENCY: Enforcement and Compliance, International Trade Administration, Department of Commerce.

SUMMARY: The U.S. Department of Commerce (Commerce) determines that certain producers and/or exporters did not sell subject merchandise in the United States at prices below normal value (NV) during the period of review (POR) December 13, 2019, through November 30, 2020.

DATES: Applicable July 8, 2022.

FOR FURTHER INFORMATION CONTACT: Konrad Ptaszynski, AD/CVD Operations, Office I, Enforcement and Compliance, International Trade Administration, Department of Commerce, 1401 Constitution Avenue NW, Washington, DC 20230; telephone: (202) 482-6187.

SUPPLEMENTARY INFORMATION:

Background

On January 5, 2022, Commerce published the Preliminary Results of this administrative review of the antidumping duty order on kegs from the People's Republic of China (China) ¹ in the Federal Register.² On April 18, 2022, we received case briefs from Guangzhou Jingye Machinery Co., Ltd. (Jingye),³ and the American Keg Company (the Petitioner).⁴ On April 28, 2022, we received a rebuttal briefs from the Petitioner, Jingye and Guangzhou Ulix Industrial & Trading Co., Ltd. (Ulix).⁵ Commerce addressed comments from the parties in the Issues and Decision Memorandum accompanying this notice.⁶ Commerce conducted this administrative review in accordance with section 751 of the Tariff Act of 1930, as amended (the Act).

¹ See Refillable Stainless Steel Kegs from the Federal Republic of Germany and the People's Republic of China: Antidumping Duty Orders, 84 FR 68405 (December 16, 2019) (Order).

² See Refillable Stainless Steel Kegs from the People's Republic of China: Preliminary Results of Antidumping Duty Administrative Review and Preliminary Determination of No Shipments; 2019-2020, 87 FR 425 (January 5, 2022) (Preliminary Results).

³ See Jingye's Letter, “Jingye Letter in Lieu of Case Brief,” dated April 18, 2022.

⁴ See Petitioner's Letter, “Case Brief,” dated April 18, 2022.

⁵ See Petitioner's Letter, “Case Brief,” dated April 28, 2022; see also Jingye's Letter, “Jingye Rebuttal Brief,” dated April 28, 2022.; and Ulix's Letter, “Ulix Rebuttal Brief,” dated April 28, 2022.

⁶ See Memorandum, “Issues and Decision Memorandum for the Final Results of the 2019-2020 Administrative Review of Refillable Stainless Steel Kegs from the People's Republic of China,” dated concurrently with, and hereby adapted by, this notice (Issues and Decision Memorandum).

Scope of the Order

The products covered by this Order are refillable stainless steel kegs. A full description of the scope of the Order is provided in the Issues and Decision Memorandum.

Analysis of Comments Received

All issues raised in the case and rebuttal briefs filed by parties in the administrative review are addressed in the Issues and Decision Memorandum, which is hereby adopted by this notice. A list of the issues that parties raised and to which we responded in the Issues and Decision Memorandum is included as Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum is available to parties at https://access.trade.gov/public/FRNoticesListLayout.aspx.

Changes Since the Preliminary Results

Based on a review of the record and comments received from interested parties regarding our Preliminary Results, we made one change to the Preliminary Results of this administrative review regarding Jingye. For the final results of review, we find that Jingye had a sale during the POR and is entitled to a separate rate. We made no changes to the margin calculation for Ulix.

Rate for Non-Examined Separate Rate Respondent

The statute and Commerce's regulations do not address what rate to apply to respondents not selected for individual examination when Commerce limits its examination in an administrative review pursuant to section 777A(c)(2) of the Act. Generally, Commerce looks to section 735(c)(5) of the Act, which provides instructions for calculating the all-others rate in an investigation, for guidance when calculating the rate for non-selected respondents that are not examined individually in an administrative review. Section 735(c)(5)(A) of the Act states that the all-others rate should be calculated by averaging the weighted-average dumping margins for individually examined respondents, excluding rates that are zero, de minimis, or based entirely on facts available. When the rates for individually examined companies are all zero, de minimis, or based entirely on facts available, section 735(c)(5)(B) of the Act provides that Commerce may use “any reasonable method” to establish the all-others rate.

We have calculated a 0.00 percent dumping margin for the mandatory respondent, Ulix. We assigned the non-individually examined separate rate respondent a dumping margin equal to the dumping margin of Ulix, consistent with the guidance in section 735(c)(5)(B) of the Act.

Final Results of Review

Commerce determines that the following weighted-average dumping margin exists for the administrative review covering the period December 13, 2019, through November 30, 2020:

Exporters | Weighted- average dumping margin (percent)
Guangzhou Ulix Industrial & Trading Co., Ltd | 0.00
Guangzhou Jingye Machinery Co., Ltd | 0.00

Disclosure

Normally, Commerce discloses the calculations used in its analysis to parties in a review within five days of the date of publication of the notice of final results of the review, in accordance with 19 CFR 351.224(b). However, in this case, given we made no changes to the calculations addressed in the Preliminary Results, there are no additional calculations on the record to disclose to the interested parties.

Assessment Rates

Pursuant to section 751(a)(2)(C) of the Tariff Act of 1930, as amended (the Act), and 19 CFR 351.212(b), Commerce has determined, and U.S Customs and Border Protection (CBP) shall assess, antidumping duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Because the weighted-average dumping margin for Ulix and the respondent that was not selected for individual examination in this administrative review but qualified for a separate rate is zero, Jingye, Commerce will instruct CBP to liquidate the appropriate entries without regard to antidumping duties.⁷ For the companies listed in Appendix II, identified as part of the China-wide entity, we will instruct CBP to apply an antidumping duty assessment rate of 77.13 percent (the rate applicable to the China-wide entity) to all entries of subject merchandise during the POR exported by those companies.

⁷ See Antidumping Proceedings: Calculation of the Weighted-Average Dumping Margin and Assessment Rate in Certain Antidumping Proceedings: Final Modification, 77 FR 8101, 8103 (February 14, 2012).

Cash Deposit Requirements

The following cash deposit requirements will be effective upon publication of the final results of this review for shipments of the subject merchandise from China entered, or withdrawn from warehouse, for consumption on or after the publication date, as provided by sections 751(a)(2)(C) of the Act: (1) for previously investigated or reviewed Chinese or non-Chinese exporters not listed above that received a separate rate in a prior segment of this proceeding, the cash deposit rate will continue to be the existing exporter-specific rate; (2) for all Chinese exporters of subject merchandise that have not been found to be entitled to a separate rate, the cash deposit rate will be that for the China-wide entity (i.e., 77.13 percent); and (3) for all non-Chinese exporters of subject merchandise which have not received their own rate, the cash deposit rate will be the rate applicable to the Chinese exporter that supplied that non-Chinese exporter. These deposit requirements, when imposed, shall remain in effect until further notice.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification Regarding Administrative Protective Order

This notice also serves as a final reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing and publishing these final results of review in accordance with sections 751(a)(l), 751(a)(2)(B), and 777(i) of the Act.

Dated: June 30, 2022.
Ryan Majerus,
Deputy Assistant Secretary for Policy and Negotiations.

Appendix I

List of Topics Discussed in the Issues and Decision Memorandum

I. Summary

II. Background

III. Scope of the Order

IV. Discussion of the Issues

Comment 1: Whether Commerce should Find that Ulix Engaged in Middleman Dumping

Comment 2: Whether Commerce Should Find that Ulix Is an Agent of the Sole Supplier of Subject Merchandise

Comment 3: Whether Commerce Should Apply Total Averse Facts Available (AFA) to Ulix

Comment 4: Whether Commerce Erred in its Rejection of the Petitioner's NFI

Comment 5: Whether Commerce Should Find that Jingye had a Suspended Sale of Subject Merchandise in the POR and Assign Jingye a Separate Rate

V. Recommendation

Appendix II

Companies that are subject to this administrative review that are considered to be part of the China-wide entity are:

1. Equipmentimes (Dalian) E-Commerce Co., Ltd.

2. Jinan HaoLu Machinery Equipment Co., Ltd.

3. NDL Keg Qingdao Inc.

4. Ningbo BestFriends Beverage Containers Industry Co., Ltd.

5. Ningbo Chance International Trade Co., Ltd.

6. Ningbo Direct Import & Export Co., Ltd.

7. Ningbo Haishu Direct Import and Export Trade Co., Ltd.

8. Ningbo Haishu Xiangsheng Metal Factory

9. Ningbo Hefeng Container Manufacturer Co., Ltd.

10. Ningbo Hefeng Kitchen Utensils Manufacture Co., Ltd.

11. Ningbo HGM Food Machinery Co., Ltd.

12. Ningbo Jiangbei Bei Fu Industry and Trade Co., Ltd.

13. Ningbo Kegco International Trade Co., Ltd.

14. Ningbo Minke Import & Export Co., Ltd.

15. Ningbo Sanfino Import & Export Co., Ltd.

16. Ningbo Shimaotong International Co., Ltd.

17. Ningbo Sunburst International Trading Co., Ltd.

18. Orient Equipment (Taizhou) Co., Ltd.

19. Penglai Jinfu Stainless Steel Products

20. Qingdao Henka Precision Technology Co., Ltd

21. Rain Star International Trading Dalian Co., Ltd.

22. Shandong Tiantai Beer Equipment Co., Ltd.

23. Shandong Tonsen Equipment Co., Ltd.

24. Sino Dragon Group, Ltd.

25. Wenzhou Deli Machinery Equipment Co.

26. Wuxi Taihu Lamps and Lanterns Co., Ltd.

27. Yantai Toptech Ltd.

28. Yantai Trano New Material Co., Ltd.

[FR Doc. 2022-14566 Filed 7-7-22; 8:45 am]

BILLING CODE 3510-DS-P